DEPARTMENT OF AGRICULTURE

Office of the Secretary

Privacy Act of 1974; Amendment of Existing System of Records; USDA/FS-26, Trespass and Claims

AGENCY: Office of the Secretary, USDA.

ACTION: Notice; amendment of system of records; request for comments.

SUMMARY: In accordance with the Privacy Act of 1974, as amended, the U.S. Department of Agriculture is proposing to amend its existing system of records entitled USDA/FS-26, Trespass and Claims, to add new routine uses. USDA invites public comment on this publication.

DATES: Effective Date: These system amendments will be adopted without further notice on February 11, 2002, unless modified by a subsequent notice to incorporate comments received from the public.

Comment Date: Comments must be received on or before January 11, 2002.

ADDRESSES: Send written comments to the Director, Financial Management (MAIL STOP 1139), Forest Service, USDA, PO Box 96090, Washington, DC 20090-6090. Those who submit comments should be aware that all comments, including names and addresses when provided, are placed in the record and are available for public inspection. Individuals wishing to inspect comments are encouraged to call (703) 605-4763 to make arrangements.

FOR FURTHER INFORMATION CONTACT: Janet Arling, Financial Management Staff, Forest Service, at (304) 636-1800, ext. 208.

SUPPLEMENTARY INFORMATION: Pursuant to the Privacy Act, 5 U.S.C. 552a, the U.S. Department of Agriculture is proposing to amend USDA/FS-26, an existing system of records maintained by the Forest Service. The amendment will add a new routine use to conform this system of records with the Debt Collection Improvement Act of 1996 and, thus, allow referral of legally enforceable debts to the Department of the Treasury for the purpose of participating in the Treasury Offset Program and Cross-Servicing Program as required by section 31001 of the Debt Collection Improvement Act of 1996, Public Law 104-134 (31 U.S.C. 3711).

Other changes to the routine uses include expanding the purposes for which disclosure of these records may be made to the Department of Justice to include requesting legal advice; adding disclosure to a court or other tribunal when the Agency is party to or has interest in litigation and when the Agency determines the records are relevant and necessary and disclosure is compatible with the purpose for which the Agency collected the records; adding disclosure to a State or local government in an effort to recoup debts owed the Government; and adding disclosure to the Department of the Treasury for publication in Notice of Delinquent Debtors.

The system locations are being changed by adding the offices of Forest Supervisors and District Rangers. Other changes to the system of records include adding a purpose statement, clarifying the categories of records in this system, and updating authorities for maintaining the system.

In accordance with the Privacy Act and OMB Circular A-130, the Department of Agriculture has provided a report on this revised system of records to the Office of Management and Budget (OMB) and to the Congress.

A copy of the amended system of records is set out at the end of this notice. Although the Privacy Act only requires a Federal agency to solicit comments from the public with respect to changes in a system's routine use, the Department of Agriculture invites comments on all portions of this notice.

Dated: December 5, 2001.
Ann M. Beneman,
Secretary of Agriculture.

USDA/FS-26

System Name:

Trespass and Claims, USDA/FS.

Security Classification:

None.

System Location:

These records are located at the Forest Service offices of the Chief, the Regional Foresters, Forest and Rangeland Experiment Station Directors, the Directors of the Forest Products Laboratory and the International Institute of Tropical Forestry, the Northeastern Area Director, Forest Supervisors, and District Rangers. The addresses of these offices are listed in 36 CFR part 200, subpart A, or in local telephone directories under the heading “United States Government, Department of Agriculture, Forest Service.”

Categories of individuals covered by the system:

Individuals who file claims against the Forest Service pursuant to the Federal Tort Claims Act, the Military Personnel and Civilian Employees' Claims Act of 1964, and the various Forest Service Claims Acts; individuals against whom the Forest Service has claims; and individuals who claim title to National Forest System lands pursuant to the Adjustment of Land Titles Act, Quiet Claim Act, Color of Title Act, Wisconsin Land Title Act, or the Real Property-Quiet Title Act.

Categories of records in the system:

The system consists of files on individual claims, information on the circumstances of the loss for which the claimant is seeking relief or the circumstances of the loss for which the Government is seeking relief, opinions of the Office of the General Counsel, and disposition of the case. The files also include claim forms, police reports, investigation and accident reports, statements of witnesses, agency reports, financial data, Social Security or employer identification numbers, bank routing and account numbers, and electronic fund transfer information of individuals subject to a claim of the Forest Service.

Authority for maintenance of the system:

5 U.S.C. 301, 7 U.S.C. 1921, 2253; 16 U.S.C. 502, 556c and 574; 28 U.S.C. 2409a and 2671-2680; 31 U.S.C. 3701, 3711, 3721, 3723, 42 U.S.C. 1471, and 43 U.S.C. 872, 1068 and 1221.

Purpose(s):

The purpose of this system of records is to maintain (1) records related to debts owed the agency to ensure the agency and the United States will obtain payment and (2) administrative files of claims submitted against the agency to provide for legal determinations made in regard to these claims.

Routine uses of records maintained in the system, including categories of users and the purposes of such uses:

1. Disclose information concerning constituents, who are delinquent debtors, to a Member of Congress or to a Congressional staff member in response to an inquiry generated by the written request of the constituent about whom the record is maintained.

2. Disclose information to the Department of Justice (DOJ), or to a court or other tribunal, when: (a) The agency or any component thereof; or (b) any employee of the agency in his or her official capacity; or (c) any employee of the agency in his or her individual capacity where the agency has agreed to represent the employee; or (d) the United States is party to litigation or has an interest in such litigation and by careful review, the agency determines that the records are both relevant and necessary to the litigation and in each case, the agency determines that disclosure of the records is a use of the information contained in the records that is compatible with the purpose for which the agency collected the records. Disclosure may also be made to the DOJ when the DOJ is requested to provide legal advice to the agency or is contemplating representing the agency in proposed litigation.

3. Disclose information concerning delinquent debtors to the Department of Justice for the purpose of litigating to enforce collection of a delinquent debt or to obtain the concurrence in a decision to compromise, suspend, or terminate collection action on a debt with a principal amount in excess of $100,000 or such higher amount as the Attorney General may, from time to time, prescribe in accordance with 31 U.S.C. 3711(a).

4. Disclose information concerning delinquent debtors to the U.S. Department of the Treasury, Financial Management Service, and to any other debt collection center designated by the Secretary of the Treasury, or any debt collection contractor for the purpose of collecting the debt by cross servicing in accordance with 31 U.S.C. 3711(m).

5. Disclose information concerning delinquent debtors to the U.S Department of the Treasury, Financial Management Service, or to any other debt collection center designated by the Secretary of the Treasury, or any federal agency for the purpose of collecting the debt through offset under 31 U.S.C. 3716 (administrative offset), 31 U.S.C. 3720A (Tax refund offset), 5 U.S.C. 5514 (salary offset), or offset under any other statutory or common law authority.

6. Disclose information concerning delinquent debtors to other Federal agencies for the purpose of implementing 31 U.S.C. 3720B, which prohibits persons who are delinquent on Federal debts from obtaining Federal financial assistance in the form of loans or loan insurance or guaranties.

7. Disclose information concerning delinquent debtors to any employer of the debtor for the purpose of conducting administrative wage garnishment pursuant to 31 U.S.C. 3720D.

8. Disclose information concerning delinquent debtors to other Federal agencies or the public for the purpose of selling the debt pursuant to 31 U.S.C. 3711(i).

9. Disclose information or publicly disseminate information concerning delinquent debtors and the debt to the public for the purpose of publicly disseminating information regarding the identity of the debtor pursuant to 31 U.S.C. 3720E.

10. Disclose information concerning delinquent debtors to State and local governments in an effort to collect debts owed the Federal Government.

11. Disclose information concerning delinquent debtors to the Internal Revenue Service for the purposes of effecting an administrative offset against the debtor's income tax refund to recover a delinquent debt owed to the United States by the debtor, or obtaining the mailing address of a taxpayer/debtor in order to locate the taxpayer/debtor to collect or compromise a Federal claim against the taxpayer/debtor in accordance with 31 U.S.C. 3711, 3717, 3728 and 3718 and 26 U.S.C. 6103(m)(2) and 6402.

12. Disclose information concerning delinquent debtors to the Department of Defense or the U.S. Postal Service or other Federal agency for the purpose of conducting an authorized computer matching program in compliance with the Privacy Act of 1974, as amended, so as to identify and locate individuals receiving Federal payments (including, but not limited to, salaries, wages, and benefits) for the purpose of requesting voluntary repayment or implementing Federal employee salary offset or administrative offset procedures.

13. Disclose information concerning delinquent debtors to the Department of Defense or the U.S. Postal Service or other Federal agency for the purpose of participating in computer matching programs to effect an administrative offset against Federal payments certified to be paid to the debtor to recover a delinquent debt owed to the U.S. Government by the debtor.

Disclosure to consumer reporting agencies:

Disclosure pursuant to 5 U.S.C. 552a(b)(12): The agency may disclose to “consumer reporting agencies” as defined in the Fair Credit Reporting Act (15 U.S.C. 1681a(f)) or the Federal Claims Collection Act (31 U.S.C. 3701(A)(3)), information concerning overdue claims from this system of records that is necessary to establish the identity of the debtor, including name, address, and taxpayer identification number; amount, status, and history of the debt or claim; and the program under which the debt or claim arose.

Policies and practices for storing, retrieving, accessing, retaining, and disposing of records in the system:

Storage:

Records are maintained in file folders, while active. Closed files are retained for the required retention period. Closed files are electronically scanned, and the information is retained on magnetic disk for the required retention period. Closed paper files are appropriately destroyed. An electronic subset of delinquent debts due the Government is maintained for transmission to the Department of the Treasury for cross servicing in accordance with 31 U.S.C. 3711(m). Authorized personnel may access this data.

Retrievability:

Records are indexed and retrieved by the name of the individual claimant or debtor. Data may be retrieved from the paper records, magnetic disk, or electronic files.

Safeguards:

Records are kept in a locked office. A limited subset of data is maintained in an on-line retrieval system. Access is restricted to authorized Forest Service and Department of the Treasury personnel. A system of operator and terminal passwords is used to restrict access to the on-line system. Passwords are changed as necessary.

Retention and disposal:

Records are maintained subject to the Federal Records Disposal Act of 1943 (44 U.S.C. 366-380) and retained until the court order is lifted, litigation is concluded, or up to 10 years 3 months have elapsed, whichever is greater.

System manager(s) and address:

Director, Financial Management, Forest Service, U.S. Department of Agriculture, PO Box 96090, Washington DC 20090-6090, or the appropriate Director of Financial Management at the addresses specified under System Location.

Notification procedures:

Any individual may request information regarding this system of records or information as to whether the system contains records pertaining to him or her from the Director, Financial Management, Forest Service, U.S. Department of Agriculture, Washington, DC, or the appropriate Director of Financial Management at the address identified under System Location. If the specific location of the records is not known, the individual should address a request to the Director of Financial Management in Washington, DC. The request should be in writing and should contain name, address, and particulars of the claim.

Record access procedures:

Use same procedures as those prescribed in Notification Procedures.

Contesting record procedures:

Use same procedures as those prescribed in Notification Procedures.

Record source categories:

Information in this system comes primarily from the claimant, the claimant's or debtor's attorney or legal representative, witnesses, agency employees, and local and federal investigation personnel.

Exemptions claimed for the system:

None.

[FR Doc. 01-30658 Filed 12-11-01; 8:45 am]

BILLING CODE 3410-11-P